FEDERAL COMMUNICATIONS COMMISSION

47 CFR Part 20

[CC Docket No. 94-102; FCC 00-436]

Wireless Radio Services; Compatibility with Enhanced 911 Emergency Calling Systems

AGENCY: Federal Communications Commission.

ACTION: Final rule.

SUMMARY: In this document the Commission takes steps to ensure that persons with hearing and speech disabilities using text telephone (TTY) devices will be able to make 911 emergency calls over digital wireless systems. With this in mind, the Commission establishes June 30, 2002, as the deadline by which digital wireless service providers must be capable of transmitting 911 calls made using TTY devices. The Commission also imposes a reporting requirement on carriers, which may be fulfilled through an industry forum that has been actively involved in resolving TTY/digital compatibility problems.

DATES: The amendment to 47 CFR part 20 is effective February 26, 2001.

ADDRESSES: A copy of any comments on the information collection contained herein should be submitted to Judy Boley, Federal Communications Commission, Room 1-C804, 445 12th Street, SW., Washington, D.C. 20554, or via the Internet to jboley@fcc.gov.

FOR FURTHER INFORMATION CONTACT: Legal Information: Mindy Littell, 202-418-1310. Technical Information: Patrick Forster, 202-418-1310. For further information concerning the information collection contained in this Report and Order, contact Judy Boley, Federal Communications Commission, 202-418-0214, or via the Internet at jboley@fcc.gov.

SUPPLEMENTARY INFORMATION: This is a summary of the Commission's Fourth Report and Order (Fourth R&O) in CC Docket No. 94-102; FCC 00-436, adopted December 11, 2000, and released December 14, 2000. The complete text of this Fourth R&O is available for inspection and copying during normal business hours in the FCC Reference Information Center, Courtyard Level, 445 12th Street, SW., Washington, DC, and also may be purchased from the Commission's copy contractor, International Transcription Services (ITS, Inc.), CY-B400, 445 12th Street, SW., Washington, DC.

Synopsis of the Fourth Report and Order

1. In this Fourth Report and Order (Fourth R&O), the Commission takes steps to ensure that persons with hearing and speech disabilities using text telephone (TTY) devices will be able to make 911 emergency calls over digital wireless systems. In light of recent technological advances related to TTY/digital compatibility, the Commission establishes June 30, 2002, as the deadline by which digital wireless service providers must be capable of transmitting 911 calls made using TTY devices. In order to monitor the development and implementation of this capability within carrier networks, the Commission imposes a reporting requirement on carriers, which may be fulfilled by reporting through an industry forum that has been actively involved in resolving TTY/digital compatibility problems.

2. As indicated in paragraphs 8, 9, and 10 of the full text of the Fourth R&O, the Commission establishes December 31, 2001, as the deadline for carriers operating digital wireless systems to have obtained all software upgrades and equipment necessary to make their systems capable of transmitting 911 calls from TTY devices. However, the Commission allows carriers an additional six-month period, until June 30, 2002, to integrate, test, and deploy the technology in their systems in conjunction with the public safety community.

3. In addition to amending the Commission's rules to reflect the modified implementation deadline for digital wireless systems to be capable of transmitting 911 calls using TTY devices, the Fourth R&O also addresses pending petitions seeking waiver of the TTY regulations of 47 CFR 20.18(c). As indicated in paragraph 11 of the Fourth R&O, the majority of these petitions were filed on or before December 4, 1998, and, due to technological advances that have occurred since that time, and the revised implementation schedule adopted in the Fourth R&O, the Commission finds that these waiver petitions are moot and thus dismisses them.

4. Paragraphs 12 through 18 of the Fourth R& O considers methods that the Commission could use to monitor the carriers' progress toward attaining digital TTY accessibility, as well as the progress of technological developments and the adoption of standards. The Fourth R&O, in response to this need, adopts a requirement that carriers submit quarterly reports, but to allow them to fulfill this requirement by reporting through the TTY Forum. As detailed in paragraph 14 of the Fourth R&O, wireless carriers formed the TTY Forum for the purpose of sharing information and developing solutions to the TTY/digital incompatibility problem. The TTY Forum has done an excellent job of helping carriers move toward the goal of making digital wireless systems widely accessible to TTY devices. Most carrier and equipment manufacturer commenters agree that reports by the TTY Forum should be required in lieu of individual reports by carriers. The Commission finds that providing carriers with the flexibility to either file an individual quarterly report or to fulfill this requirement by reporting through the TTY Forum. The quarterly reports must be filed either by the individual carrier or by the carrier though the TTY Forum 15 days after the end of each quarter, beginning on April 15, 2001, with a report for the quarter ending March 31, 2001, and continuing through the implementation deadline of June 30, 2002. This requirement contains information collection requirements that are not effective until approved by the Office of Management and Budget. The FCC will publish a document in the Federal Register announcing the effective date for this requirement. Public comment on the information collection is due February 26, 2001.

5. The quarterly reports should contain updates on the status of the various solutions and should distinguish between different air interfaces. The reports should provide information concerning deployment “milestones” and issues as detailed in paragraph 17 of the Fourth R&O. Paragraph 18 of the Fourth R&O provides information on how and where to file the quarterly reports.

6. The Fourth R&O, in paragraphs 20 through 32, notes several additional consumer issues related to the solutions, including the effect of the solutions on TTYs with proprietary enhanced protocols, the support of voice carry over in the solutions, and concerns about the capability of certain handsets to allow for simultaneous connections to the audio jack and the power cord input. With respect to these issues, the Commission encourages handset and TTY manufacturers and carriers to work toward resolution of these issues. In response to consumer concerns about the availability and cost of analog wireless services, the Commission encourages carriers to work with TTY users to provide an analog service plan comparable to what is offered to digital customers.

Regulatory Flexibility Act

7. The Commission hereby certifies pursuant to section 605(b) of the Regulatory Flexibility Act (RFA), 5 U.S.C. 605(b), that the progress monitoring reporting requirement adopted in this Fourth R&O will not have a significant economic impact on a substantial number of small entities. The report is much like the reporting requirements the Commission previously adopted in the E911 proceeding. The Commission is only requiring the filing of these reports for a limited period of time. Finally, the Commission has adopted (at the suggestion of the industry) a mechanism for filing the reports that minimizes any burdens on small entities. The Commission therefore concludes that there will not be a significant economic impact as a result of this reporting requirement.

8. Report to Congress: The Commission will send a copy of the Fourth R&O, including the Final Regulatory Flexibility Act Certification, in a report to Congress pursuant to the Congressional Review Act, see 5 U.S.C. 801(a)(1)(A). In addition, the Commission will send a copy of the Fourth R&O, including the Final Regulatory Flexibility Act Certification, to the Chief Counsel for Advocacy of the Small Business Administration.

Ordering Clauses:

9. Part 20 of the Commission's Rules is amended as set forth in the Rule Changes section of this summary.

The rule amendments made by this Fourth R&O shall become effective February 26, 2001.

10. The information collections contained in this order will become effective following approval by the Office of Management and Budget. The Commission will publish a document in the Federal Register at a later date establishing the effective date for these collections.

11. All petitions for waiver of section 20.18(c) of the Commission's rules are dismissed as moot in light of the rule changes adopted in this Fourth R&O.

12. The Commission's Consumer Information Bureau, Reference Information Center shall send a copy of this Fourth R&O, including the Final Regulatory Flexibility Certification, to the Chief Counsel for Advocacy of the Small Business Administration.

Paperwork Reduction Act

13. This Fourth R&O contains a new information collection. As part of the Commission's continuing effort to reduce paperwork burdens, the Commission invites the general public and the Office of Management and Budget to take this opportunity to comment on the information collections contained in this Fourth R&O, as required by the Paperwork Reduction Act of 1995, Public Law 104-13. Public and agency comments are due February 26, 2001. Comments should address: (a) Whether the new collection of information is necessary for the proper performance of the functions of the Commission, including whether the information shall have practical utility; (b) the accuracy of the Commission's burden estimates; (3) ways to enhance the quality, utility, and clarity of the information collected; and (4) ways to minimize the burden of the collection of information on the respondents, including the use of automated collection techniques or other forms of information technology.

OMB Approval Number: N.A.

Title: Revision of the Commission's Rules To Ensure Compatibility with Enhanced 911 Emergency Calling Systems, Fourth R&O.

Form No. N.A.

Type of Review: New information collection.

Respondents: Business or other for profit.

Number of Respondents: 4,000.

Estimated Time Per Response: 2 Hours.

Total Annual Burden: 32,000 Hours.

Cost to Respondents: .0.

Needs and Uses: The information submitted in the quarterly reports will be used by the Commission to keep track of the carriers' progress in complying with E911 TTY requirements and also to monitor the progress technology is making towards compatibility with TTY devices.

List of Subjects in 47 CFR Part 20

Communications common carrier, Communications equipment, Radio.

Federal Communications Commission.
Magalie Roman Salas,
Secretary.

Rule Changes

For the reasons discussed in the preamble, The Federal Communications Commission amends 47 CFR part 20 as follows:

PART 20—COMMERCIAL MOBILE RADIO SERVICES

1. The authority citation for part 20 continues to read as follows:

Authority: 47 U.S.C. 154, 160, 251-254, 303, and 332 unless otherwise noted.

2. In § 20.18, is amended by revising the note to paragraph (c) to read as follows:

§ 20.18 911 Service.

* * * * *

(c) * * *

Note to Paragraph (c): Operators of digital wireless systems must begin complying with the provisions of this paragraph on or before June 30, 2002.

* * * * *

[FR Doc. 00-33025 Filed 12-27-00; 8:45 am]

BILLING CODE 6712-01-U